DEPARTMENT OF JUSTICE

Notice of Lodging of Proposed Consent Decree Under the Clean Water Act (CWA)

On November 17, 2025, the Department of Justice lodged a proposed Consent Decree with the United States District Court for the Northern District of Iowa in the lawsuit entitled United States v. Wynja Feedlot, Inc. Civil Action No. 5:25-cv-4066.

The United States filed this lawsuit under Section 301 of the Clean Water Act, 33 U.S.C. 1311. The United States' Complaint seeks injunctive relief and civil penalties for violations of the regulations that govern discharges of pollutants into waters of the United States from the defendant's cattle-feeding operation in Orange City, Iowa. The Consent Decree requires the defendant to perform injunctive relief and pay a $20,000 civil penalty.

The publication of this notice opens a period for public comment on the Consent Decree. Comments should be addressed to the Assistant Attorney General, Environment and Natural Resources Division, and should refer to United States v. Wynja Feedlot, Inc., D.J. Ref. No. 90-5-2-1-12816. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Eric D. Albert,
Assistant Section Chief, Environmental Enforcement Section, Environment and Natural Resources Division.

[FR Doc. 2025-20383 Filed 11-19-25; 8:45 am]

BILLING CODE 4410-15-P